DEPARTMENT OF HOUSING AND URBAN DEVELOPMENT

[Docket No. FR-7050-N-02]

30-Day Notice of Proposed Information Collection: Section 3 Sample Utilization Plans; OMB Control No: 2501-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: February 22, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD is seeking approval from OMB for the information collection described in Section A.

The Federal Register notice that solicited public comment on the information collection for a period of 60 days was published on August 23, 2021 at 86 FR 47136.

A. Overview of Information Collection

Title of Information Collection: Section 3 Sample Utilization Plans.

OMB Approval Number: 2501-New.

Type of Request: New.

Form Number: HUD Forms 4737, 4737A, 4737B, 4737C, 4737D.

Description of the need for the information and proposed use: This collection is to document the Section 3 labor hours for Section 3 workers and Section 3 Business concerns for employment and economic opportunities generated by public housing financial assistance and section 3 projects as well as the HUD funding/grants generating the opportunities. This collection is reflective of the changes to the Section 3 regulation, published in the Federal Register 9/29/2020. Grantees of HUD financial assistance can use this as a sample tool to document their Section 3 labor hours. This collection is not a requirement but is to be used as a sample if grantees do not already have a process in place to document Section 3 labor hours.

Information collection | Number of respondents | Frequency of response | Responses per annum | Burden hour per response | Total burden hours | Hourly per response | Annual cost
HUD Form 4737 Section 3 Utilization Tracker: Business Labor Hours | 2,500.00 | 1.00 | 2,500.00 | 5.00 | 12,500.00 | $42.01 | $525,125.00
HUD Form 4737A Section 3 Utilization Tracker: Section 3 Labor Hours | 2,500.00 | 1.00 | 2,500.00 | 5.00 | 12.500.00 | 42.01 | 525,125.00
HUD Form 4737B Section 3 Sample Utilization Tool: PHA Financial Assistance | 2,500.00 | 1.00 | 2,500.00 | 1.50 | 3,750.00 | 49.83 | 186,862.50
HUD Form 4737C HUD Section 3 Sample Utilization Tool: Section 3 Projects with HCD Funding | 2,500.00 | 1.00 | 2,500.00 | 1.50 | 3,750.00 | 34.18 | 128,175.00
HUD Form 4737D HUD Funding Tracker for Section 3 | 2,500.00 | 1.00 | 2,500.00 | 3.00 | 7,500.00 | 42.01 | 315,075.00
Total | 12,500.00 |  |  | 16.00 | 40,000.00 |  | 1,680,362.50

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2022-01176 Filed 1-20-22; 8:45 am]

BILLING CODE 4210-67-P